DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App., the United States Department of Agriculture announces a meeting of the National Agricultural Research, Extension, Education, and Economics Advisory Board.

SUPPLEMENTARY INFORMATION: The National Agricultural Research, Extension, Education, and Economics Advisory Board, which represents 30 constituent categories, as specified in section 802 of the Federal Agriculture Improvement and Reform Act of 1996 (Pub. L. No. 104-127), has scheduled a National Agricultural Research, Extension, Education, and Economics Advisory Board Meeting, October 30, 2001-November 1, 2001.

On Tuesday, October 30, 2001, through Thursday, November 1, 2001, the Advisory Board will hold a general meeting at the Washington Court Hotel in Washington, DC. An Orientation Session for newly appointed Advisory Board members will be held, on Tuesday, October 30, 2001, from 9:00 a.m. until 12:00 p.m. The afternoon session will include remarks by the Secretary of Agriculture (invited) and an opening address by the Honorable Clayton Yeutter, former Secretary of Agriculture and former U.S. Trade Representative. The theme of the afternoon's Focus Session is Global Agricultural Trade and Policy: U.S. Research Implications. From 2:30 p.m.-5:30 p.m., a panel will be held on international trade policies, which will consist of several international trade representatives to the United States including the European Union, Brazil, and China. An evening session from 6 p.m.-7:30 p.m. will have two guest speakers, who will talk about the National Coalition on Food and Agricultural Research (N-CFAR) and the National Association of State Universities and Land-Grant Colleges (NASULGU) Food and Society Initiative.

On Wednesday, October 31, 2001, the Advisory Board will conduct general business, hear remarks from Dr. Joseph Jen, USDA Under Secretary, Research, Education, and Economics, and continue with special panels throughout the day on Global Agricultural Trade and Policy: U.S. Research Implications. Topics will include an overview of U.S. trade in agriculture, understanding impediments to global trade, and World Bank perspectives on currency exchange issues and other economic factors. Congressional panels held in the afternoon will include Marketing U.S. Food and Agriculture and the implications for research and education.

On Thursday, November 1, 2001, from 8 a.m.-12 p.m., special reports of interest (e.g., results of the Blue Ribbon Panel study on USDA's National Agricultural Library; an update on the reorganization of USDA's Cooperative State Research, Education, and Extension Service; and Research, Education, and Economics agency updates) will be presented to the Advisory Board. Detailed discussion and wrap-up of the Focus Session will be addressed by Board members. Ambassador Allen Johnson, Chief Agriculture Negotiator for Office of the United States Trade Representative, has been invited to speak about “What's on the Horizon for Research on Agricultural World Trade.” New members to the 9-member Executive Committee will be determined by Board vote. Limited time each day will be provided for comments from the public as noted in a forthcoming agenda. Also, written comments will be accepted for public record up to two weeks following the Advisory Board meeting. The findings of the Focus Session, based on input from speakers and other stakeholders, will be consolidated into recommendations to the Secretary of Agriculture.

Dates:

• October 30, 2001, 9 a.m.-12 p.m., Orientation for New Board members

• October 30, 2001, 1 p.m.-5:30 p.m., Focus Session

• October 30, 2001, 6 p.m.-7:30 p.m., Working Reception with Guest Speaker

• October 31, 2001, 8 a.m.-6 p.m., Advisory Board Meeting and Focus Session

• October 31, 2001, 12 p.m.-1:30 p.m., Working Lunch with Speaker

• November 1, 2001, 8 a.m.-12 p.m., Focus Session, Special Reports of Interest, Discussion, and Wrap-up

Place: Washington Court Hotel, 525 New Jersey Avenue, NW.; Washington, DC; Atrium Ballroom and Executive Room (Reception Only).

Type of Meeting: Open to the Public.

Comments: The public may file written comments before or after the meeting (up to two weeks after the meeting) with the contact person. All statements will become part of the official records of the National Agricultural Research, Extension, Education, and Economics Advisory Board and will be kept on file for public review in the Office of the Advisory Board; Research, Education, and Economics; U.S. Department of Agriculture; Washington, DC 20250-2255.

For Further Information Contact: Deborah Hanfman, Executive Director, National Agricultural Research, Extension, Education, and Economics Advisory Board; Research, Education, and Economics Advisory Board Office; Room 344-A, Jamie L. Whitten Building; U.S. Department of Agriculture; STOP 2255; 1400 Independence Avenue, SW.; Washington, DC 20250-2255; Telephone: (202) 720-3684; FAX: (202) 720-6199; E-mail: smorgan@reeusda.gov.

Done at Washington, DC, this 16th day of October, 2001.
Joseph J. Jen,
Under Secretary, Research, Education, and Economics.

[FR Doc. 01-26478 Filed 10-17-01; 12:29 pm]

BILLING CODE 3410-22-P